DEPARTMENT OF THE TREASURY

Office of Thrift Supervision

[Docket ID OTS-2008-0020]

Mutual Savings Association Advisory Committee

AGENCY: Department of the Treasury, Office of Thrift Supervision.

ACTION: Notice of intent to establish; request for nominations.

SUMMARY: The Director of the Office of Thrift Supervision has determined that the establishment of the OTS Mutual Savings Association Advisory Committee is necessary and in the public interest in order to study the needs of and challenges facing mutual savings associations. OTS is seeking nominations of individuals to be considered for selection as Committee members and the names of professional and public interest groups that should be represented on the Committee.

DATES: Nominations must be received on or before January 8, 2009.

ADDRESSES: Nominations should be sent to nominations@ots.treas.gov or mailed to: Timothy T. Ward, Deputy Director, Examinations, Supervision and Consumer Protection, Office of Thrift Supervision, 1700 G Street, NW., Washington, DC 20552.

FOR FURTHER INFORMATION CONTACT: Charlotte M. Bahin, Special Counsel (Special Projects), (202) 906-6452, Office of Thrift Supervision, 1700 G Street, NW., Washington, DC 20552.

SUPPLEMENTARY INFORMATION: The Director of the Office of Thrift Supervision (OTS) has determined that the establishment of the OTS Mutual Savings Association Advisory Committee is necessary and in the public interest. The Committee is established in accordance with the Federal Advisory Committee Act, 5 U.S.C. App. 1, § 9(c). The Committee will advise OTS on ways to meet the goals established by section 5(a) of the Home Owners Loan Act (HOLA), 12 U.S.C. 1464. The MSAAC shall advise the Director with regard to mutual associations on means to: (1) Provide for the organization, incorporation, examination, operation and regulation of associations to be known as federal savings associations (including federal savings banks); and (2) issue charters therefore, giving primary consideration of the best practices of thrift institutions in the United States. The Mutual Savings Association Advisory Committee will help meet those goals by providing OTS with informed advice and recommendations regarding the current and future circumstances and needs of mutual savings associations.

Nominations should describe and document the proposed member's qualifications for Committee membership. In addition to individual nominations, OTS is soliciting the names of professional and public interest groups that should have representatives participating on the Committee. Committee members are not compensated for their time, but are eligible for reimbursement of travel expenses in accordance with applicable Federal law and regulations.

Dated: December 3, 2008.
By the Office of Thrift Supervision.
John E. Bowman,
Deputy Director and Chief Counsel.

[FR Doc. E8-29039 Filed 12-8-08; 8:45 am]

BILLING CODE 6720-01-P